DEPARTMENT OF AGRICULTURE

Natural Resources Conservation Service

Urban Agriculture and Innovative Production Advisory Committee Meeting

AGENCY: Natural Resources Conservation Service (NRCS), Department of Agriculture (USDA).

ACTION: Notice of public and virtual meeting.

SUMMARY: The Natural Resources Conservation Service (NRCS) will hold a public meeting of the Urban Agriculture and Innovative Production Advisory Committee (UAIPAC). UAIPAC will convene to discuss proposed recommendations for the Secretary of Agriculture on the development of policies and outreach relating to urban, indoor, and other emerging agriculture production practices. UAIPAC is authorized under the Agriculture Improvement Act of 2018 (2018 Farm Bill) and operates in compliance with the Federal Advisory Committee Act (FACA), as amended.

DATES:

Meeting: The UAIPAC meeting will be held on Thursday, July 11, 2024, from 12 p.m. to 5 p.m. Eastern Daylight Time (EDT).

Written Comments: Written comments will be accepted until Thursday, July 25, 2024 at 11:59 p.m. (EDT).

Oral Comments: Registration to provide oral comments during the meeting will be open until Monday, July 8, 2024 at 11:59 p.m. (EDT).

ADDRESSES:

Meeting Location: The meeting will be held virtually via Zoom webinar. Pre-registration is required to attend the UAIPAC meeting and access informaton will be provided to registered individuals via email. Registration details can be found at: https://www.usda.gov/partnerships/federal-advisory-committee-urban-ag.

Written Comments: We invite you to send comments in response to this notice via email to UrbanAgricultureFederalAdvisoryCommittee@usda.gov.

Oral Comments: Only pre-registered individuals will be permitted to provide oral comments. Instructions to register and participate in the meeting can be found at: https://www.usda.gov/partnerships/federal-advisory-committee-urban-ag.

FOR FURTHER INFORMATION CONTACT: Brian Guse; Designated Federal Officer; telephone: (202) 205-9723; email: UrbanAgricultureFederalAdvisoryCommittee@usda.gov.

Individuals who require alternative means for communication may contact the USDA TARGET Center at (202) 720-2600 (voice and text telephone (TTY)) or dial 711 for Telecommunications Relay service (both voice and text telephone users can initiate this call from any telephone).

SUPPLEMENTARY INFORMATION:

UAIPAC Purpose

The Federal Advisory Committee for Urban Agriculture and Innovative Production is one of several ways that USDA is extending support and building frameworks to support urban agriculture, including issues of equity and food and nutrition access. Section 222 of the Department of Agriculture Reorganization Act of 1994, as amended by section 12302 of the 2018 Farm Bill (7 U.S.C. 6923; Pub. L. 115-334) directed the Secretary to establish an “Urban Agriculture and Innovative Production Advisory Committee” to advise the Secretary of Agriculture on any aspect of section 222, including the development of policies and outreach relating to urban, indoor, and other emerging agricultural production practices as well as identify any barriers to urban agriculture. UAIPAC will host public meetings to deliberate on recommendations for the Secretary of Agriculture. These recommendations provide advice to the Secretary on supporting urban agriculture and innovative production through USDA's programs and services.

Meeting Agenda

The agenda items may include, but are not limited to, welcome and introductions; administrative matters; presentations from the UAIPAC or USDA staff; and deliberations for proposed recommendations and plans. The USDA UAIPAC website (https://www.usda.gov/partnerships/federal-advisory-committee-urban-ag) will be updated with the final agenda at least 24 hours prior to the meeting.

Written and Oral Comments

Comments should address specific topics pertaining to urban agriculture and innovative production. Written comments will be accepted via email (UrbanAgricutlureFederalAdvisoryCommittee@usda.gov) until 11:59 p.m. EDT on Thursday, July 25, 2024.

Only pre-registered individuals will be permitted to provide oral comments. Instructions to register and participate in the meeting can be found at: https://www.usda.gov/partnerships/federal-advisory-committee-urban-ag.

Meeting Materials

All written comments received by the deadline specified above will be compiled for UAIPAC review. Duplicate comments from multiple individuals will appear as one comment, with a notation that multiple copies of the comment were received. Please visit https://www.usda.gov/partnerships/federal-advisory-committee-urban-ag to view the agenda and minutes from the meeting.

Meeting Accommodations

If you require reasonable accommodation, please make requests in advance for sign language interpretation, assistive listening devices, or other reasonable accommodation, to the person listed under the FOR FURTHER INFORMATION CONTACT section. Determinations for reasonable accommodation will be made on a case-by-case basis.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunicaions Relay Service (both voice and text telephone users can initiate this call from any phone). Additionally, program information may be made available in languages other than English.

Equal opportunity practices in accordance with USDA's policies will be followed in all appointments to the FACA Committee: UAIPAC. To ensure that the recommendations of the Committee have taken into account the needs of the diverse groups served by the Department, membership shall include, to the extent practicable, individuals with demonstrated ability to represent the many communities, identities, races, ethnicities, backgrounds, abilities, cultures, and beliefs of the American people, including underserved communities. USDA is an equal opportunity provider, employer, and lender.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: OAC@usda.gov.

USDA is an equal opportunity provider, employer, and lender.

Dated: June 11, 2024.
Cikena Reid,
Committee Management Officer, USDA.

[FR Doc. 2024-13270 Filed 6-17-24; 8:45 am]

BILLING CODE 3410-16-P